FEDERAL COMMUNICATIONS COMMISSION

Notice of Public Information Collection(s) Being Submitted to OMB for Review and Approval

April 28, 2000.

SUMMARY: The Federal Communications Commissions, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before June 9, 2000. If you anticipate that you will be submitting comments, but find it difficult to do so within the period of time allowed by this notice, you should advise the contact listed below as soon as possible.

ADDRESSES: Direct all comments to Les Smith, Federal Communications Commission, Room 1-A804, 445 12th Street, SW., Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control Number: 3060-XXXX.

Title: Implementation of the Satellite Home Viewer Improvement Act of 1999. Enforcement Procedures for Retransmission Consent Violations Conforming to Section 325(e) of the Communications Act of 1934, as amended.

Form Number: N/A.

Type of Review: New collection.

Respondents: Business or other for-profit entities.

Number of Respondents: 8.

Estimate Time Per Response: 2 hours.

Frequency of Response: Annual reporting requirement.

Total Annual Burden: 192 hours.

Total Annual Costs: $1,296.

Needs and Uses: Congress directed the FCC to adopt regulations that enforce procedures for retransmission consent violations to satellite carriers pursuant to the changes outlined in the Satellite Home Viewer Improvement Act of 1999 (SHVIA). The availability of such information will serve the purpose of informing the public of the method of broadcast signal carriage.

OMB Control Number: 3060-XXXX.

Title: Maritime Mobile Service Identity (MMSI).

Form Number: N/A.

Type of Review: New collection.

Respondents: Business or other for-profit entities; Individuals or households.

Number of Respondents: 2,000.

Estimate Time Per Response: 0.5 hours.

Frequency of Response: On occasion reporting requirement; Third party disclosure

Total Annual Burden: 1,000 hours.

Total Annual Costs: None.

Needs and Uses: The information collection is needed to collect, search, and rescue information about each vessel issued a Maritime Mobile Service Identity (MMSI). An MMSI is a unique nine-digit number which functions similar to a “phone number” for contacting a specific vessel. Upon receiving a distress alert containing an MMSI, authorities such as the U.S. Coast Guard may use the MMSI to find out background information about the vessel, e.g., the owner's name, intended route, and other radio equipment on board, and to help determine whether the alert is false. Thus, an accurate MMSI database can help to protect lives and property at sea by reducing the time it takes to locate vessels in distress.

Federal Communications Commission.
Magalie Roman Salas,
Secretary.

[FR Doc. 00-11659 Filed 5-9-00; 8:45 am]

BILLING CODE 6712-01-P